DEPARTMENT OF EDUCATION

Service Contract Inventory for Fiscal Year (FY) 2010

AGENCY: Office of the Chief Financial Officer, U.S. Department of Education.

ACTION: Notice of availability—FY 2010 Service Contract Inventory.

SUMMARY: Through this notice, the Secretary announces the availability of the Department of Education's service contract inventory on its Web site, at http://www2.ed.gov/fund/data/report/contracts/servicecontractinventoryappendix/servicecontractinventory.html. A service contract inventory is a tool for assisting an agency in better understanding how contracted services are being used to support mission and operations and whether the contractors' skills are being utilized in an appropriate manner.

FOR FURTHER INFORMATION CONTACT: Carolyn Dempster, U.S. Department of Education, 400 Maryland Avenue, SW., Washington, DC 20202 by phone at 202-245-6068 or e-mail at Carolyn.Dempster@ed.gov.

If you use a telecommunications device for the deaf (TDD), call the Federal Relay Service (FRS), toll free, at 1-800-877-8339.

SUPPLEMENTARY INFORMATION: Section 743 of Division C of the Consolidated Appropriations Act of 2010, Public Law 111-117, requires civilian agencies, other than the Department of Defense, that are required to submit an inventory in accordance with the Federal Activities Inventory Reform Act of 1998 (Pub. L. 105-270, 31 U.S.C. 501 note) to submit their inventories to the Office of Federal Procurement Policy (OFPP) in the Office of Management and Budget (OMB) by December 30, 2010. In addition, section 743 requires these agencies, which include the Department of Education, to (1) make the inventory available to the public by posting the inventory on its agency homepage, (2) provide OFPP with the Web site address (URL) on which the inventory is being posted so that the inventory can be linked to a central OMB Web page, and (3) publish in the Federal Register a notice announcing that the inventory is available to the public along with the name, telephone number, and e-mail address of an agency point of contact.

Through this notice, the Department announces the availability of its inventory on the following Web site: http://www2.ed.gov/fund/data/report/contracts/servicecontractinventoryappendix/servicecontractinventory.html. The point of contact for the inventory is provided under the FOR FURTHER INFORMATION CONTACT section in this notice.

Accessible Format: Individuals with disabilities can obtain this document in an accessible format (e.g., Braille, large print, or audiotape) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Program Authority: Section 743 of Division C of the Consolidated Appropriations Act of 2010, Pub. L. 111-117.

Dated: January 28, 2011.
Thomas P. Skelly,
Chief Financial Officer.

[FR Doc. 2011-2236 Filed 1-28-11; 11:15 am]

BILLING CODE 4000-01-P